DEPARTMENT OF HEALTH AND HUMAN SERVICES

National Institutes of Health

Center for Scientific Review; Amended Notice of Meeting

Notice is hereby given of a change in the meeting of the Skeletal Muscle and Exercise Physiology Study Section, February 8, 2018, 8:00 a.m. to February 9, 2018, 6:00 p.m., Hilton Long Beach and Executive Center, 701 West Ocean Boulevard, Long Beach, CA 90831 which was published in the Federal Register on January 19, 2018, 83 FR PG 2807.

The meeting will be held on February 7, 2018 at 6:00 p.m. and end February 8, 2018 9:00 p.m. The meeting location remains the same. The meeting is closed to the public.

Dated: January 29, 2018.
Melanie J. Pantoja,
Program Analyst, Office of Federal Advisory Committee Policy.

[FR Doc. 2018-02031 Filed 1-31-18; 8:45 am]

BILLING CODE 4140-01-P